NATIONAL AERONAUTICS AND SPACE ADMINISTRATION

[Notice 04-055]

Notice of Prospective Patent License

AGENCY: National Aeronautics and Space Administration.

ACTION: Notice of Prospective Patent License.

SUMMARY: NASA hereby gives notice that StarGate Research, Inc., of Denver, CO, has applied for a partially exclusive license to practice the invention described and claimed in U.S. Patent No. 6,354,540 identified as Case No. MSC-22931-1, and entitled “Androgynous, Reconfigurable Closed Loop Feedback Controlled Low Impact Docking System With Load Sensing Electromagnetic Capture Ring.” The patent is assigned to the United States of America as represented by the Administrator of the National Aeronautics and Space Administration. Written objections to the prospective grant of a license should be sent to the Johnson Space Center.

DATES: Responses to this notice must be received by May 7, 2004.

FOR FURTHER INFORMATION CONTACT: Theodore Ro, Patent Attorney, NASA Johnson Space Center, Mail Stop HA, Houston, TX 77058-8452; telephone (281) 244-7148.

Dated: April 19, 2004.
Keith T. Sefton,
Chief of Staff, Office of the General Counsel.

[FR Doc. 04-9132 Filed 4-21-04; 8:45 am]

BILLING CODE 7510-01-P